DEPARTMENT OF TRANSPORTATION

National Highway Traffic Safety Administration

Reports, Forms, and Record Keeping Requirements; Agency Information Collection Activity Under OMB Review

AGENCY: National Highway Traffic Safety Administration (NHTSA), U.S. Department of Transportation (DOT).

ACTION: Notice.

SUMMARY: In compliance with the Paperwork Reduction Act of 1995 this notice announces the Information Collection Request (ICR) abstracted below will be submitted to the Office of Management and Budget (OMB) for review and comment. The ICR describes the nature of the information collection and its expected burden. A Federal Register Notice with a 60-day comment period soliciting public comments on the following information collection was published on July 17, 2017.

DATES: Comments must be received on or before December 26, 2017.

ADDRESSES: You may submit comments, within 30 days, to the Office of Information and Regulatory Affairs, Office of Management and Budget, 725 17th Street NW., Washington, DC 20503, Attention NHTSA Desk Officer.

FOR FURTHER INFORMATION CONTACT: Dr. Kathy Sifrit, Office of Behavioral Safety Research (NPD-320), National Highway Traffic Safety Administration, 1200 New Jersey Avenue SE., W46-472, Washington, DC 20590. Dr. Sifrit's phone number is (202) 366-0868 and her email address is kathy.sifrit@dot.gov.

SUPPLEMENTARY INFORMATION: Title: Visual Scanning Training for Older Drivers.

Type of Request: New information collection requirement.

Abstract: Older adults comprise an increasing proportion of the driving population and exposure-based analyses have consistently shown increased rates of crash involvement for drivers as they age into their 70's, 80's and beyond. Studies have identified particular situations where older drivers are most at risk, including navigating intersections and merging. These tasks share attributes of elevated demand on visual search and visual attention skills.

The visual scanning training protocol that is the focus of this study was designed to be delivered in one-on-one sessions by a generalist occupational therapist (OT) in a clinical setting, targeting visual field expansion, simultaneous processing of multiple visual stimuli, and ocular skill (visual search routine) exercises.

A preliminary analysis of the training's effectiveness was provided through performance of the NHTSA study, “Validation of Rehabilitation Training Programs for Older Drivers” (See DOT HS 811 749, April 2013). While these results were encouraging, the sample size was small and the research team, program developer and NHTSA all agreed that additional evidence was needed before widespread promotion of this intervention might be warranted. That is the focus of the proposed research.

Study staff will invite drivers 70 and older from a continuing care retirement community to a public meeting to describe the opportunity including inclusion and exclusion criteria. The project plans to recruit a total of 90 participants for the study. Participants will be randomly assigned to either a visual scanning training program (a series of four one-hour one-on-one training sessions) or to a control (placebo) activity for the same number of hours as the visual training protocol. All participants will undergo three, one-hour on-road evaluations by a Certified Driver Rehabilitation Specialist (CDRS) over the course of the study: One before training, one immediately after training, and a final evaluation three months after training. The CDRS will provide instructions about what route to follow and will score how safely the participant drives using standard procedures and criteria that are broadly accepted in the profession. The CDRS scores will be used to determine the effectiveness of the training protocol relative to the control (placebo) group.

Following training, the 45 study participants enrolled in the visual scanning training group will complete a brief questionnaire to determine whether they believe the training will help them to be a safer driver, whether they would recommend the training to friends or relatives, and what they would pay for such training. The training feedback, as well as the CDRS road test scores, will be used to evaluate the effectiveness of the training. Following the second and third evaluations, each study participant will receive a $100 gift card as compensation for his/her participation.

Findings will provide information about whether this training program improves the driving performance of drivers 70 and older, and whether they find the training acceptable. NHTSA will use the information to inform recommendations to the public, and particularly to the OT community, regarding this training program.

Affected Public: Participants will include 90 licensed drivers 70 and older.

Estimated Total Annual Burden: The total burden for data collection would be 690 hours.

Comments are invited on the following:

(i) Whether the proposed collection of information is necessary for the proper performance of the functions of the agency, including whether the information will have practical utility;

(ii) The accuracy of the Department's estimate of the burden of the proposed information collection;

(iii) Ways to enhance the quality, utility and clarity of the information to be collected; and

(iv) Ways to minimize the burden of the collection of information on respondents, including the use of automated collection techniques or other forms of information technology.

A comment to OMB is most effective if OMB receives it within 30 days of publication of this notice.

Authority: 44 U.S.C. Section 3506(c)(2)(A).

Issued in Washington, DC, on November 20, 2017.
Jeff Michael,
Associate Administrator, Research and Program Development.

[FR Doc. 2017-25401 Filed 11-22-17; 8:45 am]

BILLING CODE 4910-59-P